ENVIRONMENTAL PROTECTION AGENCY

[EPA-HQ-OECA-2010-0370; FRL-9188-2]

Agency Information Collection Activities; Submission to OMB for Review and Approval; Comment Request; Air Emission Standards for Tanks, Surface Impoundments and Containers (Renewal), EPA ICR Number 1593.08, OMB Control Number 2060-0318

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before September 13, 2010.

ADDRESSES: Submit your comments, referencing docket ID number EPA-HQ-OECA-2010-0370 to (1) EPA online using http://www.regulations.gov (our preferred method), or by e-mail to docket.oeca@epa.gov, or by mail to: EPA Docket Center (EPA/DC), Environmental Protection Agency, Enforcement and Compliance Docket and Information Center, mail code 28221T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Avenue, NW., Washington, DC 20460; telephone number: (202) 564-4113; fax number: (202) 564-0050; email address: williams.learia@epa.gov.

SUPPLEMENTARY INFORMATION: EPA has submitted the following ICR to OMB for review and approval according to the procedures prescribed in 5 CFR 1320.12. On June 2, 2010 (75 FR 30813), EPA sought comments on this ICR pursuant to 5 CFR 1320.8(d). EPA received no comments. Any additional comments on this ICR should be submitted to EPA and OMB within 30 days of this notice.

EPA has established a public docket for this ICR under docket ID number EPA-HQ-OECA-2010-0370, which is available for public viewing online at http://www.regulations.gov, in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper will be made available for public viewing at http://www.regulations.gov, as EPA receives them and without change, unless the comment contains copyrighted material, Confidential Business Information (CBI), or other information whose public disclosure is restricted by statute. For further information about the electronic docket, go to http://www.regulations.gov.

Title: Air Emission Standards for Tanks, Surface Impoundments and Containers (Renewal).

ICR Numbers: EPA ICR Number 1593.08, OMB Control Number 2060-0318.

ICR Status: This ICR is scheduled to expire on October 31, 2010. Under OMB regulations, the Agency may continue to conduct or sponsor the collection of information while this submission is pending at OMB. An agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: This ICR contains recordkeeping and reporting requirements that are mandatory for compliance with 40 CFR part 264, subpart CC, and 40 CFR part 265, subpart CC. The Resource Conservation and Recovery Act (RCRA) subpart CC required control for minimizing release of volatile organic air emissions from tanks, surface impoundments, and containers holding hazardous waste. Records and reports are necessary in order for the EPA to determine that the standards are implemented and maintained, and to protect human health and the environment.

Organic air emissions from hazardous treatment, storage and disposal facilities (TSDFs) can contain toxic chemical compounds. Cancer and other adverse noncancerous human health effects can result from exposure to these emissions. Organic emissions from TSDFs react photochemically with other compounds in the atmosphere to form ground level ozone. Excessive ambient ozone concentrations are a major air quality problem in many cities throughout the United States. Nationwide organic emissions from TSDFs are estimated to be approximately one million megagrams per year. These organic emissions are estimated to result in 48 excess incidences of cancer per year nationwide and a 3 × 10−² maximum individual risk (MIR).

Information collected are needed by the EPA to determine: (a) Whether a hazardous waste contains sufficiently low concentrations of volatile organics to allow the waste to be managed in a tank, surface impoundment, or container without the use of emission controls; and (b) for units requiring emission controls, whether the controls are being properly operated and maintained. These notifications, reports, and records are essential in determining compliance with the applicable standards. Semiannual reports of excess emissions are also required.

Any owner or operator subject to the provisions of this part shall maintain a file of these measurements, and retain the records for at least three years following the date of such measurements, maintenance reports, and records. Performance tests reports are required as this is the Agency's record of a source's initial capability to comply with the emission standard, and they serve as a record of the operating conditions under which compliance was achieved.

All reports are sent to the delegated state or local authority. In the event that there is no such delegated authority, the reports are sent directly to the EPA regional office. This information is being collected to assure compliance with 40 CFR (part 264, subpart CC, and part 265, subpart CC) as authorized in sections 112 and 114(a) of the Clean Air Act. The required information consists of emissions data and other information that have been determined to be private.

An agency may not conduct or sponsor, and a person is not required to respond to, a collection of information unless it displays a currently valid OMB Control Number. The OMB Control Number for EPA regulations, listed in 40 CFR part 9 and 48 CFR chapter 15, are identified on the form and/or instrument, if applicable.

Burden Statement: The annual public reporting and recordkeeping burden for this collection of information is estimated to average 114 hours per response. Burden means the total time, effort, or financial resources expended by persons to generate, maintain, retain, or disclose, and provide information to or for a Federal agency. This includes the time needed to review instructions; develop, acquire, install, and utilize technology and systems for the purposes of collecting, validating, and verifying information, processing and maintaining information, and disclosing and providing information. All existing ways will have to adjust to comply with any previously applicable instructions and requirements that have subsequently changed; train personnel to be able to respond to a collection of information; search data sources; complete and review the collection of information; and transmit or otherwise disclose the information.

Respondents/Affected Entities: Tanks, surface impoundments and containers.

Estimated Number of Respondents: 6,209.

Frequency of Response: Occasionally, annually, and semiannually.

Estimated Total Annual Hour Burden: 711,400.

Estimated Total Annual Cost: $80,708,869, which includes $68,290,869 in labor costs, no capital/startup costs, and $12,418,000 in operation and maintenance (O&M) costs.

Changes in the Estimates: There is no change in the number of affected facilities or the number of responses as compared to the previous ICR.

There is however, a small decrease in the estimated labor burden hours, as currently identified in the OMB Inventory of Approved Burdens. The decrease is not due to any program changes. The change in the labor burden hours occurred because the previous ICR rounded their calculations and this renewal did not. There is an increase in the cost estimates as compared to the previous ICR. The change in the cost estimates came about by the updated labor rates, which resulted in an increase in the labor costs.

Dated: August 5, 2010.
John Moses,
Director, Collection Strategies Division.

[FR Doc. 2010-19805 Filed 8-11-10; 8:45 am]

BILLING CODE 6560-50-P